DEPARTMENT OF COMMERCE

National Oceanic and Atmospheric Administration

[RTID 0648-XB750]

East Coast Fisheries of the United States; Request for Comments

AGENCY: National Marine Fisheries Service (NMFS), National Oceanic and Atmospheric Administration (NOAA), Commerce.

ACTION: Notice of public meetings via webinar.

SUMMARY: Several fishery management bodies on the East Coast of the U.S. are convening three public webinars to continue work on an initiative called East Coast Climate Change Scenario Planning. This is a joint effort of the Atlantic States Marine Fisheries Commission (ASMFC), the New England Fishery Management Council (NEFMC), the Mid-Atlantic Fishery Management Council (MAFMC), the South Atlantic Fishery Management Council (SAFMC), and NOAA Fisheries. The focus of the webinars will be to explore the key drivers of change that could shape East Coast fisheries over the next 20 years. There will be opportunity for questions and engagement from the public as well as a brief update on this multi-year initiative.

DATES: These webinars will be held on Monday, February 14, 2022, at 3 p.m.-4:30 p.m.; Wednesday, February 23, 2022, at 3 p.m.-4:30 p.m.; and Wednesday, March 2, 2022, at 3 p.m.-4:30 p.m.

ADDRESSES: The meetings will be held via webinar.

All meeting participants and interested parties are asked to register for each webinar individually from this website: https://www.mafmc.org/climate-change-scenario-planning.

FOR FURTHER INFORMATION CONTACT: Thomas A. Nies, Executive Director, New England Fishery Management Council; telephone: (978) 465-0492.

SUPPLEMENTARY INFORMATION: Background: Climate change is a growing threat to marine fisheries worldwide. On the East coast of the United States, there is evidence of climate-related changes in distribution, abundance, and/or productivity of fishery resources. It is uncertain what the next couple of decades will bring, and how fishery management programs can best prepare to meet the challenges ahead. Over the next year, this joint effort will bring together researchers, fishery managers, fishery participants and others to discuss these questions and emerge with ideas and recommendations for how fishery management can potentially adapt to climate change.

The management bodies in this region have decided to employ a scenario planning framework to discuss these issues. Scenario planning is a way of exploring how fishery management may need to evolve over the next few decades as climate change becomes a bigger issue. Specifically, scenarios are stories about possible future developments. This approach is designed to help stakeholders and managers think broadly about the future implications of climate change to help define what changes can potentially be made now to be better prepared.

Three introductory “kick-off” webinars were held in 2021 to explain the overall initiative and share draft objectives and possible outcomes of the work with the public. The next phase of this initiative, the exploration phase, includes another series of webinars outlined in this notice. The primary objective of these meetings is to share information about and discuss the key drivers of change that could shape East Coast fisheries over the next 20 years—which will then become the “building blocks” for scenario creation. Three separate webinars are planned, each dealing with a different area of driving forces/uncertainties that are shaped by climate change. The first on February 14, 2022, will cover oceanographic drivers of change (e.g., ocean temperature, sea level rise, acidification, ocean currents). The second on February 23, 2022, will focus on biological drivers of change (e.g., changing spatial distributions, health of stocks, habitat loss, rate of ecosystem change). And the last webinar on March 2, 2022, will focus on social and economic drivers of change (e.g., competing ocean uses, community impacts, consumer demand). During each webinar a brief overview and status of the initiative will be presented followed by a more detailed presentation by a lead presenter outlining the current and future trends for each topic. Next, a small panel of experts will join the lead presenter to provide additional perspectives. Finally, there will be an opportunity for questions of the panelists and presenters as well as limited public comments at the end of each webinar.

Additional details about the webinars will be posted to this page once available: https://www.mafmc.org/climate-change-scenario-planning.

The public also should be aware that the meeting will be recorded. Consistent with 16 U.S.C. 1852, a copy of the recording is available upon request.

Special Accommodations

These meetings are physically accessible to people with disabilities. Requests for sign language interpretation or other auxiliary aids should be directed to: Thomas A. Nies, Executive Director, at (978) 465-0492, at least 5 days prior to the meeting date.

Authority: 16 U.S.C. 1801 et seq.

Dated: January 24, 2022.
Tracey L. Thompson,
Acting Deputy Director, Office of Sustainable Fisheries, National Marine Fisheries Service.

[FR Doc. 2022-01658 Filed 1-26-22; 8:45 am]

BILLING CODE 3510-22-P